DEPARTMENT OF THE INTERIOR

Office of the Secretary

[Docket No. ONRR-2012-0003; DS63602000 DR2000000.PX8000 178D0102R2]

U.S. Extractive Industries Transparency Initiative (USEITI) Advisory Committee; Postponement of Meeting

AGENCY: Office of the Secretary, Office of Natural Resources Revenue, Interior.

ACTION: Notice.

SUMMARY: The June 2017 United States Extractive Industries Transparency Initiative Advisory Committee meeting has been postponed.

DATES: The meeting was scheduled for June 7-8, 2017, in Washington, DC, and will be rescheduled at a later date. We will publish a future notice with a new meeting date and location.

FOR FURTHER INFORMATION CONTACT: Judith Wilson, Program Manager, 1849 C Street NW., MS 4211, Washington, DC 20240. You may also contact the USEITI Secretariat via email at useiti@ios.doi.gov, by phone at 202-208-0272, or by fax at 202-513-0682.

SUPPLEMENTARY INFORMATION: The U.S. Department of the Interior established the USEITI Advisory Committee on July 26, 2012, to serve as the USEITI multi-stakeholder group. Additional information is available in the meeting notice published on December 29, 2016 (81 FR 96032).

Authority: 5 U.S.C. Appendix 2.

Gregory J. Gould,
Director—Office of Natural Resources Revenue.

[FR Doc. 2017-10720 Filed 5-24-17; 8:45 am]

BILLING CODE 4335-30-P